FEDERAL COMMUNICATIONS COMMISSION

[DA 04-2154]

The Consumer & Governmental Affairs Bureau Seeks Additional Information Regarding Certain Slamming Informal Complaints

AGENCY: Federal Communications Commission.

ACTION: Notice.

SUMMARY: In this document, the Consumer & Governmental Affairs Bureau seeks additional information for certain informal complaints regarding “slamming” (the unauthorized change of a subscriber's selection of telephone exchange or telephone toll service).

DATES: Additional information regarding certain slamming informal complaints is due on or before August 16, 2004.

ADDRESSES: Federal Communications Commission, 445 12th Street, SW., Washington, DC 20554.

FOR FURTHER INFORMATION CONTACT: Diane Fallica, (202) 418-0298 (voice), (202) 418-0484 (TTY), or e-mail Diane.Fallica@fcc.gov.

SUPPLEMENTARY INFORMATION: This is a summary of the Commission's Public Notice DA 04-2154, released July 16, 2004, seeking additional information regarding certain slamming informal complaints. If you would like to submit additional information for any of the informal complaint cases below, contact Diane Fallica, (202) 418-0298 (voice), Diane.Fallica@fcc.gov, of the Consumer Policy Division, Consumer & Governemental Affairs Bureau. The TTY number is (202) 418-0484. Any case number listed below for which no additional information is received by the Commission on or before August 16, 2004, may be dismissed in accordance with §§ 64.1100 through 64.1195 of the Commission's rules, 47 CFR 64.1100 through 64.1195.

To request materials in accessible formats for people with disabilities (Braille, large print, electronic files, audio format), send an e-mail to fcc504@fcc.gov or call the Consumer & Governmental Affairs Bureau at (202) 418-0530 (voice) or (202) 418-0432 (TTY). This Public Notice can also be downloaded in Word and Portable Document Format (PDF) at http://www.fcc.gov/cgb/policy/slamming.html.

Synopsis: This Public Notice contains the case file numbers for certain informal complaints regarding “slamming” (the unauthorized change of a subscriber's selection of telephone exchange or telephone toll service) for which we are in need of additional information. The purpose of the slamming rules is to protect consumers and law abiding carriers from companies that engage in slamming in violation of our rules. Since the current slamming rules became effective, the Commission has ordered over half a million dollars in consumer refunds and credits. As part of our continuing effort to vigorously enforce our slamming rules, we seed additional information for the cases listed below:

01-S52091, 01-S54640, 01-S55024, 01-S55457, 01-S56724, 01-S56764, 01-S57323, 01-S57853, 01-S58226, 01-S58227, 01-S58239, 01-S58318, 01-S58612, 01-S60205, 01-S61086, 01-S61414, 01-S62301, 01-S62446, 01-S62548, 01-S63474, 01-S65664, 01-S66825, 02-B0003652, 02-B0007313, 02-B0011332, 02-F0007637, 02-N69287, 02-P28259, 02-S66700, 02-S66758, 02-S67038, 02-S67160, 02-S67535, 02-S67614, 02-S67622, 02-S67654, 02-S67966, 02-S67976, 02-S67989, 02-S67998, 02-S68005, 02-S68023, 02-S68044, 02-S68056, 02-S68114, 02-S68124, 02-S68125, 02-S68491, 02-S68495, 02-S68640, 02-S70222, 02-S70489, 02-S70491, 02-S70515, 02-S70608, 02-S71109, 02-S71450, 02-S71556, 02-S7192, 02-S71946, 02-S72027, 02-S72304, 02-S72441, 02-S72451, 02-S7269, 02-S72794, 02-S72798, 02-S73093, 02-S73099, 02-S73100, 02-S73260, 02-S73337, 02-S73363, 02-S73366, 02-S73368, 02-S73370, 02-S73376, 02-S73401, 02-S73402, 02-S73467, 02-S73492, 02-S73523, 02-S74508, 02-S74904, 02-S74907, 02-S74928, 02-S75895, 02-S76098, 02-S76207, 02-S76267, 02-S76290, 02-S76313, 02-S76490, 02-S76586, 02-S76608, 02-S76832, 02-S76977, 02-S77181, 02-S77183, 02-S77201, 02-S77233, 02-S77236, 02-S77252, 02-S77365, 02-S77441, 02-S78709, 02-S78980, 02-S79295, 02-S79297, 02-S79379, 02-S79386, 02-S79485, 02-S79590, 02-S79592, 02-S79603, 02-S79736, 02-S79785, 02-S80051, 02-S80447, 02-S80622, 02-S80645, 02-S80690, 02-S80697, 02-S80765, 02-S80775, 02-S81306, 02-S81334, 02-S81339, 02-S81399, 02-S81436, 02-S81521, 02-S81522, 02-S81568, 02-S81634, 02-S81647, 02-S81905, 02-S81920, 02-S81921, 02-S81951, 03-B0021109, 03-B0042690S, 03-I0024166, 03-I0024540, 03-I0024947, 03-I0026539, 03-I0028598, 03-I0028818, 03-I0028835, 03-I0035079S, 03-I0046885S, 03-I0047501S, 03-I0048539S, 03-I0052955S, 03-I0053481S, 03-I0054773S, 03-I0055388S, 03-I0056465S, 03-I0056842S, 03-I0056969S, 03-I0063318S, 03-I0064075S, 03-I0073916S, 03-I0074884S, 03-I0075087S, 03-I0077518S, 03-S000377S, 03-S82112, 03-S82177, 03-S82297, 03-S82350, 03-S82633, 03-S82654, 03-S82997, 03-S83063, 03-S83073, 03-S83168, 03-S83170, 03-S83283, 03-S83328, 03-S83343, 03-S83361, 03-S83438, 03-S83442, 03-S83485, 03-S83509, 03-S83510, 03-S83533, 03-S83544, 03-S83816, 03-S83817, 03-S83857, 03-S83860, 03-S83941, 03-S83955, 03-S84324, 03-S84388, 03-S84395, 03-S84425, 03-S84460, 03-S84470, 03-S84572, 03-S84594, 03-S84716, 03-S84762, 03-S84842, 03-S84913, 03-S84937, 03-S84946, 03-S84960, 03-S84990, 03-S85012, 03-S85017, 03-S85021, 03-S85029, 03-S85058, 03-S85118, 03-S85183, 03-S85262, 03-S85266, 03-S85299, 03-S85714, 03-S85728, 03-S85818, 03-S85833, 03-S85848, 04-S000392S, 04-S85901

Federal Communications Commission.
Thomas D. Wyatt,
Deputy Chief, Consumer & Governmental Affairs Bureau.

[FR Doc. 04-17818 Filed 8-3-04; 8:45 am]

BILLING CODE 6712-01-P